FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 011741-016.

Title: U.S. Pacific Coast-Oceania Agreement.

Parties: A.P. Moller-Maersk A/S; CMA CGM S.A.; Hamburg-Sud; and Hapag-Lloyd AG.

Filing Party: Wayne R. Rohde, Esq.; Cozen O'Connor; 1627 I Street, NW., Suite 1100; Washington, DC 20006.

Synopsis: The amendment eliminates Maersk Line's allocation on the PNW string and revises the allocations of the other parties accordingly.

Agreement No.: 012042-004.

Title: MOL/ELJSA Slot Exchange Agreement.

Parties: Evergreen Line Joint Service Agreement and Mitsui O.S.K. Lines, Ltd.

Filing Party: Susannah K. Keagle, Esq.; Nixon Peabody, LLP; Gas Company Tower; 555 West Fifth Street, 46th Floor; Los Angeles, CA 90013.

Synopsis: The amendment removes the parties' U.S. East Coast services from the agreement.

Agreement No.: 012126.

Title: Maersk Line/Dole Space Charter Agreement.

Parties: A.P. Moller-Maersk A/S and Dole Ocean Cargo Express, Inc.

Filing Party: Wayne Rohde, Esq.; Cozen O'Connor; 1627 I Street, NW.; Suite 1100; Washington, DC 20006.

Synopsis: The agreement authorizes Maersk Line to charter space to Dole in the trades between the U.S. Gulf coast and Guatemala and Honduras.

Agreement No.: 012127.

Title: Hoegh/Liberty Space Charter and Cooperative Working Agreement.

Parties: Hoegh Autoliners AS and Liberty Global Logistics LLC.

Filing Party: Anne E. Mickey, Esq.; Cozen O'Connor; 1627 I Street, NW., Suite 1100; Washington, DC 20006.

Synopsis: The agreement authorizes Hoegh to charter space to Liberty for U.S. military preference cargo on an “as needed-as available” basis between U.S. ports and ports worldwide.

By Order of the Federal Maritime Commission.
Dated: May 13, 2011.
Rachel E. Dickon,
Assistant Secretary.

[FR Doc. 2011-12233 Filed 5-17-11; 8:45 am]

BILLING CODE 6730-01-P